COMMITTEE FOR THE IMPLEMENTATION OF TEXTILE AGREEMENTS

Adjustment of Import Limits for Certain Cotton, Wool, Man-Made Fiber, Silk Blend and Other Vegetable Fiber Textiles and Textile Products Produced or Manufactured in the People's Republic of China

August 2, 2007.

AGENCY: Committee for the Implementation of Textile Agreements (CITA).

ACTION: Issuing a directive to the Commissioner, U.S. Customs and Border Protection adjusting limits.

EFFECTIVE DATE: August 8, 2007.

FOR FURTHER INFORMATION CONTACT: Ross Arnold, International Trade Specialist, Office of Textiles and Apparel, U.S. Department of Commerce, (202) 482-4212. For information on the quota status of this limit, refer to the Bureau of Customs and Border Protection website (http://www.cbp.gov), or call (202) 344-2650. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

Pursuant to the Memorandum of Understanding between the Governments of the United States and the People's Republic of China concerning Trade in Texile and Apparel Products, signed and dated on November 8, 2005, the current limits for certain categories are being increased for carryover.

A description of the textile and apparel categories in terms of HTS numbers is available in the CORRELATION: Textile and Apparel Categories with the Harmonized Tariff Schedule of the United States (see Federal Register notice 71 FR 62999, published on October 27, 2006). Also see 71 FR 65090 published on November 7, 2006.

R. Matthew Priest,
Chairman, Committee for the Implementation of Textile Agreements.

Committee for the Implementation of Textile Agreements

August 2, 2007.

Commissioner,

U.S. Customs and Border Protection, Washington, DC 20229.

Dear Commissioner: This directive amends, but does not cancel, the directive issued to you on October 23, 2006, as amended on November 2, 2006, by the Chairman, Committee for the Implementation of Textile Agreements. That directive concerns imports of certain cotton, wool, man-made fiber, silk blend and other vegetable fiber textiles and textile products, produced or manufactured in China and exported during the twelve-month period which began on January 1, 2007 and extends through December 31, 2007.

Effective on August 8, 2007, you are directed to adjust the current limits for the following categories, as provided for under the terms of the Memorandum of Understanding between the Governments of the United States and the People's Republic of China concerning Trade in Texile and Apparel Products, signed and dated on November 8, 2005:

Category | Adjusted twelve-month limit ¹
200/301 | 8,832,199 kilograms.
222 | 18,728,689 kilograms.
229 | 39,237,301 kilograms.
332/432/632-T (plus baby socks) ². | 75,443,136 dozen pairs, of which not more than 71,724,800 dozen pairs shall be in categories 332/432/632-B (plus baby socks) ³.
338/339pt. ⁴ | 23,893,373 dozen.
340/640 | 7,738,332 dozen.
345/645/646 | 9,385,644 dozen.
347/348 | 22,566,791 dozen.
349/649 | 26,146,827 dozen.
352/652 | 21,743,905 dozen.
359-S/659-S ⁵ | 5,267,743 kilograms.
363 | 118,556,112 numbers.
443 | 1,544,629 numbers.
447 | 246,718 dozen.
619 | 63,466,510 square meters.
620 | 92,026,342 square meters.
622 | 37,846,860 square meters.
638/639pt. ⁶ | 9,248,922 dozen.
647/648pt. ⁷ | 9,134,507 dozen.
666pt. ⁸ | 1,106,206 kilograms.
847 | 20,250,225 dozen.
¹ The limit has not been adjusted to account for any imports exported after December 31, 2006.
² Categories 332/432/632-T: baby socks: only HTS numbers 6111.20.6050, 6111.30.5050 and 6111.90.5050; within Category 632: only HTS numbers 6115.10.4000, 6115.10.5500, 6115.30.9010, 6115.96.6020, 6115.99.1420, 6115.96.9020, 6115.99.1920.
³ Categories 332/432/632-B: baby socks: only HTS numbers 6111.20.6050, 6111.30.5050 and 6111.90.5050; within Category 632: only HTS numbers 6115.10.4000, 6115.10.5500, 6115.96.6020, 6115.96.9020, 6115.99.1420, 6115.99.1920.
⁴ Categories 338/339pt: all HTS numbers except: 6110.20.1026, 6110.20.1031, 6110.20.2067, 6110.20.2077, 6110.90.9067, and 6110.90.9071.
⁵ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
⁶ Categories 638/639pt.: all HTS numbers except: 6110.30.2051, 6110.30.2061, 6110.30.3051, 6110.30.3057, 6110.90.9079, and 6110.90.9081.
⁷ Categories 647/648pt.: all HTS numbers except 6203.43.3510, 6204.63.3010, 6210.40.5031, 6210.50.5031, 6211.20.1525 and 6211.20.1555.
⁸ Category 666pt.: only HTS numbers 6303.12.0010 and 6303.92.2030.

The Committee for the Implementation of Textile Agreements has determined that this action falls within the foreign affairs exception to the rulemaking provisions of 5 U.S.C. 553(a)(1).

Sincerely,

R. Matthew Priest,

Chairman, Committee for the Implementation of Textile Agreements.

[FR Doc. E7-15325 Filed 8-6-07; 8:45 am]

BILLING CODE 3510-DS-S